CONSUMER PRODUCT SAFETY COMMISSION

Sunshine Act Meeting

TIME AND DATE: Wednesday, June 10, 2020; 1:30 p.m.

PLACE: via Teleconference.

STATUS: Commission Meeting—Closed to the Public.

MATTERS TO BE CONSIDERED: Staff will brief the Commission on the status of a compliance program.

CONTACT PERSON FOR MORE INFORMATION: Alberta E. Mills, Secretary, Division of the Secretariat, Office of the General Counsel, U.S. Consumer Product Safety Commission, 4330 East-West Highway, Bethesda, MD 20814, (301) 504-7479.

Dated: June 3, 2020.
Alberta E. Mills,
Secretary.

[FR Doc. 2020-12336 Filed 6-3-20; 11:15 am]

BILLING CODE 6355-01-P